DEPARTMENT OF TRANSPORTATION

Federal Transit Administration

FY 2010 Discretionary Sustainability Funding Opportunity; Transit Investments for Greenhouse Gas and Energy Reduction (TIGGER) Program and Clean Fuels Grant Program, Augmented With Discretionary Bus and Bus Facilities Program

AGENCY: Federal Transit Administration (FTA), DOT.

ACTION: Notice of availability of FTA environmental sustainability program funds: solicitation of project proposals.

SUMMARY: The Federal Transit Administration (FTA) announces the availability of discretionary funds in Fiscal Year (FY) 2010 for the Transit Investments for Greenhouse Gas and Energy Reduction (TIGGER) program funds and FY 2009 and 2010 Clean Fuels Grant program funds, augmented with FY 2010 Section 5309 Bus and Bus Facilities program funds. These discretionary program funds will be distributed in accordance with the mission of each program and in support of the U.S. Department of Transportation's (DOT) environmental sustainability efforts.

This notice includes priorities established by FTA for these discretionary funds, the criteria FTA will use to identify meritorious projects for funding, and describes how to apply for funding under each discretionary program. This announcement is available on the FTA Web site at: http://www.fta.dot.gov. FTA will announce final selections on the Web site and in the Federal Register. A synopsis of each funding opportunity will be posted in the FIND module of the government-wide electronic grants Web site at http://www.grants.gov.

DATES: Complete proposals for Clean Fuels/Bus and Bus Facilities discretionary grants must be submitted by June 14, 2010. All proposals must be submitted electronically through the GRANTS.GOV APPLY function. Anyone intending to apply electronically through GRANTS.GOV should initiate the process of registering on the GRANTS.GOV site immediately to ensure completion of registration before the deadline for submission. Those who apply via GRANTS.GOV should receive two confirmation e-mails. The first will confirm that the application was received and a subsequent e-mail will be sent indicating whether the application was validated or rejected by the system.

TIGGER program proposals must be submitted by August 11, 2010. Applicants are encouraged to submit applications early in order to allow for full consideration by FTA. Instructions for applying for the TIGGER program can be found at http://www.fta.dot.gov/tigger and will also be available in the “FIND” module of grants.gov.

FOR FURTHER INFORMATION CONTACT: Contact the appropriate FTA Regional Administrator (Appendix A) for proposal-specific information and issues. For general program information on the TIGGER program, contact Walter Kulyk, Office of Mobility Innovation, (202) 366-4995, e-mail: walter.kulyk@dot.gov. For program information on the Clean Fuels/Bus and Bus Facilities Program; contact Juan Morrison, Office of Program Management, (202) 366 -7005, e-mail: juan.morrison@.dot.gov. A TDD is available at 1-800-877-8339 (TDD/FIRS).

SUPPLEMENTARY INFORMATION:

Table of Contents

I. FTA Sustainability Program Overview

II. Sustainability Program Information

A. Transit Investments for Greenhouse Gas and Energy Reduction (TIGGER) Program

1. Program Purpose

2. Eligible Applicants

3. Eligible Projects

4. Cost Sharing or Matching

5. Application Content

6. Evaluation Criteria

7. Award Administration Information

B. Clean Fuels/Bus and Bus Facilities Program

1. Program Purpose

2. Eligible Applicants

3. Eligible Projects

4. Cost Sharing or Matching

5. Application Content

6. Evaluation Criteria

III. Technical Assistance

Appendix A FTA Regional and Metropolitan Offices

Appendix B Glossary of Terms (TIGGER Program)

Appendix C TIGGER Project Proposal Outline

Appendix D Program Matrix

I. FTA Sustainability Program Overview

A. Authority

These programs are authorized under section 5308, 5309(b) (as amended by the Safe, Accountable, Flexible, Efficient, Transportation Equity Act: A Legacy for Users (SAFETEA-LU)) and Division A of the Transportation, Housing and Urban Development, and Related Agencies Appropriations Act 2010.

B. Policy Priority

Among the goals of the Obama Administration is one to improve our Nation's environment and to secure its energy future. Effective provision of public transportation is a key part of this goal. The Administration believes that we must commit ourselves to an economic future in which the strength of our economy is not tied to the unpredictability of oil markets. We must make the investments in clean energy sources that will both enhance the environment through improved air quality and curb our dependence on fossil fuels, making America energy independent by:

• Breaking Dependence on Oil. Provide increased public transportation options that minimize the use of fossil fuels and invest in the development of alternative fuel vehicles.

• Producing More Energy at Home. Enhance U.S. energy supplies through responsible development of domestic renewable energy, fossil fuels, advanced biofuels and nuclear energy.

• Promoting Energy Efficiency. Promote investments in the transportation, electricity, industrial, building and agricultural sectors that reduce energy bills.

FTA advances these energy and environmental goals by funding projects that:

• Enhance the quality of public transportation services.

• Assist nonattainment and maintenance areas in achieving or maintaining the National Ambient Air Quality standards for ozone and carbon monoxide.

• Support emerging Clean Fuel and advanced propulsion technologies for transit buses and markets for those technologies.

• Reduce greenhouse gas emissions of public transportation systems.

By this notice, FTA announces the availability of at least $156.2 million in FY 2009 and FY 2010 discretionary resources to help encourage transit projects that promote the usage and development of energy efficient technologies that reduce greenhouse gas emissions and other pollutants. Projects funded as a result of this notice will further the Department's environmental sustainability efforts. To support these efforts, and to ensure FTA is able to fund a wide variety of investment types, FTA intends to provide funds from the TIGGER program and Clean Fuels Grant program, augmented with Section 5309 Bus and Bus Facilities program funds in support of capital investment that will improve energy efficiency and reduce emissions. As each program has separate eligibility and program requirements, FTA encourages applicants to carefully consider which program to apply under. FTA will provide $75 million under the TIGGER program. This program is intended for projects of innovative and national significance with a minimum project cost of $1 million. To complement TIGGER, FTA also will award approximately $81.2 million under the Clean Fuels Grant program. FTA also intends to further our environmental sustainability goals by allowing applicants not eligible under the Clean Fuels Grant program to apply for projects which promote the use of clean fuels and fund those projects with additional Bus and Bus Facilities program funds.

II. Sustainability Program Information

A. TIGGER Program

The Transportation, Housing and Urban Development, and Related Agencies Appropriations Act 2010 (Pub. L. 111-68), appropriated $75 million for grants to public transit agencies for capital investments that will reduce the energy consumption or greenhouse gas emissions of their public transportation systems, referred to as the Transit Investments for Greenhouse Gas and Energy Reduction (TIGGER) program. $100 million was previously provided for TIGGER in the American Recovery and Reinvestment Act of 2009 (ARRA) and awarded by FTA.

Based on lessons learned in the application and review process from the ARRA-funded TIGGER program, for which proposals exceeding $2 billion were submitted, FTA is changing some of the application procedures for the FY 2010-funded TIGGER program to simplify the process. Additionally, given the availability of other FTA discretionary programs in FY 2010, such as the Bus and Bus Facilities program and the Clean Fuels Grant program, FTA will rate more favorably innovative technologies of national significance, such as electric drive and other forward-looking technologies, not normally funded out of other FTA programs.

This notice announces the availability of the grant program funding, application requirements, and deadlines for submitting proposals for funding.

1. Program Purpose

There are two eligible purposes for TIGGER grants: (1) For capital investments that will assist in reducing the energy consumption of a transit system; or (2) for capital investments that will reduce greenhouse gas emissions of a public transportation system. Project proposals may be submitted under either or both categories; however only one project may be submitted under a single proposal. FTA has established a range of funding that will be considered for approval. Each submitted project must request a minimum of $1,000,000 and must not exceed a maximum of $25,000,000. Applications for projects less than $1,000,000 may be applied for if they are part of a consolidated proposal submitted by the State Department of Transportation (State DOT) that, in total, meets or exceeds the $1,000,000 threshold. FTA may decide to provide only partial funding for certain proposals to maximize the impact of this program. FTA encourages applicants with projects that are not technologically innovative, or which do not meet these funding thresholds, to apply under the Bus and Bus Facilities or Clean Fuels programs, which have simpler application criteria.

2. Eligible Applicants

Only public transportation agencies or State DOTs may apply. Unlike the ARRA-funded TIGGER program, FTA will not accept consolidated proposals from public transportation agencies. A public transportation agency may only apply for one project for a single transit agency in one proposal. However, public transportation agencies may submit multiple proposals (applications). A State DOT may submit a consolidated proposal for multiple projects from one or more transit agencies in order to meet the $1,000,000 threshold. Consolidated proposals must contain individual project level information, as described in Section 5. Application Content, for each project included in the consolidated proposal. Grant awards will be made for a particular project directly to public transportation agencies or to a State Department of Transportation on behalf of a public transportation agency.

3. Eligible Projects

Eligible expenses must meet the following criteria: (1) The expense must be an eligible capital expense as defined under 49 U.S.C. 5302(a)(1); and (2) the project will assist in the reduction of the energy consumption of a public transportation system and/or the reduction of greenhouse gas emissions of a public transportation system.

4. Cost Sharing or Matching

The expected Federal share for TIGGER grants is 90 percent, although applicants may request a different Federal share. A proposed Federal share can be less than 90 percent, or up to 100 percent. However, applicants requesting a lower Federal share may be given a higher rating in the evaluation process, all else being equal.

5. Application Content

a. Proposal Submission Process

Project proposals must follow the submission guidelines that will be provided shortly at http://www.fta.dot.gov/tigger. A synopsis of this announcement will be posted in the “FIND” module of the GRANTS.GOV. Mail and fax submissions will not be accepted except for supplemental information that cannot be sent electronically.

b. Proposal Content

Proposals from public transit agencies may contain only one project. Unlike the ARRA-funded TIGGER program, FTA will not accept consolidated proposals with projects from multiple public transit agencies, or multiple projects from one public transit agency. Agencies may submit multiple proposals (applications), but each proposal must be clearly define a separate project. See Appendix B for an outline of project proposal requirements.

Proposals from State DOTs may contain multiple projects from one or more transit agencies in order to meet the $1,000,000 threshold. Consolidated proposals must contain individual project level information, as described below, for each project included in the consolidated proposal.

Project Summary—The applicant may be requested to enter summary information about the proposed project into a project summary sheet or electronic application tool. Guidelines for application procedures, further instructions, and application tools will be located on FTA's Web site at www.fta.dot.gov/tigger. Instructions for completing and submitting the sheet will be provided at the Web site.

(1) Applicant Information

This addresses basic identifying information, including:

i. Applicant name;

ii. Contact information (including contact name, address, e-mail address, phone and fax number);

iii. Whether the applicant's area is attainment, non-attainment, or maintenance for ozone or CO;

iv. Description of services provided by the agency, including areas served;

v. Congressional district(s) served by the proposed project;

vi. If the project proposal includes vehicles, provide existing fleet information, such as a current rail or bus fleet management plan, if not already on file with the FTA Regional Office; and

vii. A description of the technical, legal and financial capacity of the project sponsor.

(2) Project Information

Every proposal must:

i. Include a project management plan to be utilized to implement the proposed project;

ii. Address whether the project is to be evaluated under energy reduction or greenhouse gas reduction criteria, or both criteria;

iii. Include the project scope, including descriptions of the proposed capital investment as well as the existing system, subsystem, facility, vehicle, or component that the investment will replace or be applied to. The project scope determines where measurement of energy reductions or greenhouse gas emissions reductions will take place and must be directly related to the actual capital investment. It should be determined in a manner that permits measurement before and after the investment to determine either the energy savings or greenhouse gas reductions, or both;

iv. Include a line-item budget for the project and its total cost. For scalable projects, a scaling plan describing the minimum amount necessary for a feasible project and the energy or greenhouse gas reduction impacts of a reduced funding level;

v. State the expected useful life of the investment based on accepted FTA and industry practices;

vi. Provide a project time-line outlining steps from project development through completion, including significant milestones such as date of contract awards and dates of project implementation; and

vii. Include the proposed location of the project. For facilities and other infrastructure this means the city or county where the infrastructure will be located. For transit vehicles it means the cities or counties where transit services are likely to be provided.

(3) Project Measurement Information

i. Proposals must provide a narrative describing how the greenhouse gas and/or energy saving estimates were calculated. Proposals also must identify the process the agency will use to determine the actual energy savings and/or greenhouse gas emission reductions realized once the investment is implemented. FTA will post on its Web site (http://www.fta.dot.gov/tigger) the information or other application tools that may be used to develop these calculations.

ii. Project Measurement Criteria for Energy Reduction Projects: The proposal must include:

iii. Project's Current Annual Energy Use

iv. Project's Estimated Annual Energy Use

v. Project's Estimated Annual Energy Savings

vi. Project's Total Estimated Energy Savings Over Its Useful Life

vii. Project's Total Energy Savings as a Percentage of the Agency's Total Annual Energy Use. This can be reported as less than one percent or the proposal must include:

(a) Total Annual Energy Consumption of the Public Transportation Agency

(b) The Project's Total Energy Savings as a percentage of the Total Annual Energy Consumption of the Public Transportation Agency

(4) Project Measurement Criteria for Greenhouse Gas Emission Reduction Projects: Proposals must include:

i. Project's Current Annual Greenhouse Gas Emissions

ii. Project's Estimated Annual Greenhouse Gas Emissions

iii. Project's Estimated Annual Greenhouse Gas Savings

iv. Project's Total Estimated Greenhouse Gas Savings over the Project's Useful Life

(5) Proposed deviations from FTA Circular 5010

FTA's capital program includes the introduction of new technology, through innovative and improved products, into public transportation as an eligible expense. FTA intends to apply 49 U.S.C. 53 requirements and FTA Circular 5010.1.D Grant Management Requirements issued on November 1, 2008 to this program. This Circular may be found at: http://www.fta.dot.gov/laws/circulars/leg_reg_8640.html. The applicant should identify any waivers to these requirements it anticipates it may need that would affect its ability to introduce new technology. However, FTA is disinclined to grant any Buy America waivers.

(6) A project proposal should address each of the evaluation criteria separately, except for geographic diversity which need not be addressed by the applicant.

c. Funding Restrictions

Only proposals from eligible recipients for eligible activities will be considered for funding (see Section II of this Notice).

6. Evaluation Criteria

Proposals will be evaluated for their ability to reduce energy consumption and/or greenhouse gas emissions of the transit agency. An applicant will be evaluated under both criteria if it provides the necessary project measurement information.

a. Evaluation Criteria for Energy Consumption Reduction Projects

FTA will evaluate proposals on total energy consumption savings projected to result from the project, and projected energy savings of the project as a percentage of the total energy usage of the public transit agency. Refer to Appendix B for definitions.

b. Evaluation Criterion for Greenhouse Gas Emission Reduction Projects

FTA will evaluate proposals based on the total amount of greenhouse gas reductions projected to result from the project.

c. Evaluation Criteria for All Projects

In addition, FTA will evaluate all proposals on the following criteria:

(1) Project Innovation

The project identifies a unique, significant, or innovative approach to reducing energy consumption or greenhouse gas emissions.

FTA encourages qualified projects that will demonstrate innovative technologies and other approaches to reducing energy consumption or greenhouse gas emissions such as electric drive technologies. FTA will give some priority consideration to these projects if all other project evaluation criteria are comparable.

Examples of innovation include:

i. On-Board Vehicle Energy Management (energy storage, regenerative braking, fuel cells, turbines, engine auto start/stop, etc.)

ii. Electrification of Accessories (air conditioning, air compressor, power steering, etc.)

iii. Bus Design (lightweight materials, component packaging, maintainability, etc.)

iv. Rail Transit Energy Management (energy storage, regenerative braking, solar propulsion engine systems, power load-leveling, etc.)

v. Locomotive Design (energy storage, regenerative braking, fuel cells, turbines, engine auto start/stop, lightweight material, etc.)

vi. Other innovative approaches to reduce energy consumption or greenhouse gas emissions.

(2) National Applicability. The national applicability of the project as an example of energy savings or greenhouse gas reductions, including whether the project could be replicated by other transit agencies regionally or nationally and is consistent with FTA livability and environmental sustainability goals should be demonstrated.

(3) Project Readiness. FTA will evaluate the proposed timeframe of the project for timeliness and reasonableness.

(4) Project Management. The applicant demonstrates the capacity to carry out the project.

i. The applicant is in a fundable status for the FTA grant program.

ii. The applicant's project team demonstrates the technical capacity to carry out the project, including the project approach or project management plan.

iii. The applicant has the ability to collect information and demonstrate the results of the project for at least one year following project implementation

(5) Return on Investment. This factor addresses the energy savings and/or greenhouse gas reduction relative to the total project cost, including the proposed Federal and local shares.

(6) Geographic Diversity. To provide the ability to evaluate technologies in a wide variety of conditions, FTA may select projects to ensure there is sufficient geographic diversity.

d. Review and Selection Process

Proposals first will be screened by FTA program staff. During the process, FTA may seek clarifications or corrections to some proposals to ensure adequate information is available to evaluate the proposal. After evaluating proposals based on the established technical criteria, FTA will publish the list of all selected projects and funding levels in the Federal Register.

7. Award Administration Information

a. Award

Once proposals have been reviewed and projects have been selected, successful applicants will apply for and FTA will award grant funding through FTA's TEAM grant management system. These grants will be administered and managed by FTA regional offices in accordance with the applicable Federal requirements of 49 U.S.C. chapter 53.

Depending on award amount, FTA may require a scope and project budget reduction before a grant is submitted in TEAM.

b. Administrative and National Policy Requirements

(1) Grant Requirements

If selected, project sponsors will apply for a grant through TEAM and adhere to the customary FTA grant requirements of 49 U.S.C. chapter 53, including those identified in FTA Circular 5010.1D and the FTA Master Agreement, unless otherwise specified in the grant agreement. Technical assistance regarding these requirements is available from the corresponding FTA regional office.

Applicants must sign and submit current Certifications and Assurances before receiving a grant. If the applicant has already submitted the annual Certifications and Assurances in TEAM, they do not need to be resubmitted. The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and may affect the implementation of the project. The Applicant agrees that the most recent Federal requirements will apply to the project, unless FTA issues a written determination otherwise.

(2) Planning

Applicants are encouraged to notify the appropriate State DOT and Metropolitan Planning Organization (MPO) in areas likely to be served by the project funds made available under this program. Incorporation of funded projects in the long-range plans and transportation improvement programs of States and metropolitan areas is required of all funded projects. FTA cannot obligate grant funds unless the project is contained in a Federally approved State Transportation Improvement Plan (STIP).

Similarly, all environmental requirements must be complete before FTA can obligate and award a grant in TEAM.

c. Reporting Requirements

FTA reporting requirements include standard reporting requirements identified in FTA Circular 5010.1D, and the Master Grant Agreement. In addition, the TIGGER program has additional reporting requirements. A recipient of TIGGER funds must report on an annual basis:

(1) Actual annual energy consumed within the project scope attributable to the investment for energy consumption reduction projects;

(2) Actual greenhouse gas emissions within the project scope attributable to the investment for greenhouse gas reduction projects; and

(3) Actual annual reductions or increases in operating costs attributable to the investment for all projects.

B. Clean Fuels/Bus and Bus Facilities Program

The Clean Fuels Grant program was first established as the Clean Fuels Formula Grant program in Section 3008 of the Transportation Equity Act for the 21st Century, Public Law 105-178, June 9, 1998 (now codified at 49 U.S.C. Sec. 5308). The program was developed to assist non-attainment or maintenance areas in achieving or maintaining the National Ambient Air Quality Standards for ozone and carbon monoxide (CO). Additionally, the program supported emerging clean fuel and advanced propulsion technologies for transit buses and markets for those technologies. FY 2009 unallocated funding and the FY 2010 Transportation Appropriations Act provides $81 million dollars in discretionary Clean Fuels Grant program resources. Additionally, FTA is expanding the eligible applicant pool and may fund projects that meet the Clean Fuels Grant program objectives in attainment areas using a portion of FY 2010 discretionary Bus and Bus Facilities program resources that are available. Please Note: Subsequent to this notice, FTA will also publish a Notice of Funding Availability that announces the availability of additional Bus and Bus Facilities program funds that will assist grantees to improve the state of good repair of buses and bus facilities.

1. Program Purpose

The Clean Fuels/Bus and Bus Facilities program has a two-fold purpose. First, the Clean Fuels Grant program was developed to assist nonattainment and maintenance areas in achieving or maintaining the National Ambient Air Quality Standards for ozone and CO. The second program purpose is to support emerging clean fuel and advanced propulsion technologies for transit buses and markets for those technologies.

2. Eligible Applicants

Eligible applicants under the FY 2010 Clean Fuels Grant program are:

a. Designated recipients in maintenance or non-attainment areas for ozone or CO, which are entities designated to receive Federal urbanized formula funds under 49 U.S.C. 5307.

b. FTA will also accept applications from direct recipients, tribes for rural areas, and State Departments of Transportation in attainment areas. Note: Projects selected in attainment areas will be funded using Bus and Bus Facilities program funds.

3. Eligible Projects

Section 5308 grants authority to the Secretary to make grants under this section to assist recipients to finance eligible projects such as the following: (1) Purchasing or leasing clean fuel buses, including buses that employ a lightweight composite primary structure and vans for use in revenue service. The purchase or lease of non-revenue vehicles is not an eligible project; (2) Constructing or leasing clean fuel bus facilities or electrical recharging facilities and related equipment; (3) Projects relating to clean fuel, biodiesel, hybrid electric, or zero emissions technology buses that exhibit equivalent or superior emissions reductions to existing clean fuel or hybrid electric technologies.

Funds made available under this program cannot be used to fund operating expenses or preventive maintenance. Funds made available under this program cannot be used to reimburse projects that have incurred prior eligible expenses without a Letter of No Prejudice (LONP) issued by FTA for the project before the costs are incurred.

4. Cost Sharing or Matching

c. Clean Fuels

For projects awarded Clean Fuels funding, costs will be shared as follows:

(1) Vehicles—90 percent FTA/10 percent local contribution for the net incremental cost of the clean fuels component. For administrative simplicity, FTA allows recipients to compute the Federal share at 83 percent for eligible vehicle purchases. The 83 percent share is a blended figure representing 80 percent of the vehicle and 90 percent of the vehicle-related equipment to be acquired in compliance with the Clean Air Act.

(2) Facilities—The 83 percent Federal share does not apply to facilities, for which the costs are more variable. The eligibility of facility-related cost elements at the 90 percent share will be reviewed for eligibility of the higher Federal share on a case-by-case basis as part of the grant application process.

(3) The FY 2010 Appropriations Act allows a 90 percent Federal share for the total cost of a biodiesel bus.

(4) The FY 2010 Appropriations Act allows a 90 percent Federal share for the net capital cost of factory installed hybrid electric propulsion systems and any equipment related to such a system. For administrative simplicity, FTA allows recipients to compute the Federal share at 83 percent for eligible vehicle purchases.

(5) FTA will not approve deferred local share.

d. Bus and Bus Facilities

For projects awarded Bus and Bus Facilities funding, costs will be shared as follows:

(1) 80 percent FTA/20 percent local contribution for the net capital project cost, unless the grant recipient requests a lower percentage.

(2) The Federal share may exceed 80 percent for certain projects related to the Americans with Disabilities Act (ADA) and the Clean Air Act (CAA) as follows: ADA—The Federal share is 90 percent for the cost of vehicle-related equipment or facilities attributable to compliance with the ADA of 1990 (42 U.S.C. 12101 et seq.); CAA—The Federal share is 90 percent for the cost of vehicle related equipment or facilities (including clean-fuel or alternative-fuel vehicle related equipment or facilities) attributable to compliance with the CAA (42 U.S.C. 7401 et seq.). For administrative simplicity, FTA allows recipients to compute the Federal share at 83 percent for eligible ADA and CAA vehicle purchases.

(3) The FY 2010 Appropriations Act allows a 90 percent Federal share for the total cost of a biodiesel bus.

(4) The FY 2010 Appropriations Act also allows a 90 percent Federal share for the net capital cost of factory installed or retrofitted hybrid electric propulsion systems and any equipment related to such a system. For administrative simplicity, FTA allows recipients to compute the Federal share at 83 percent for eligible vehicle purchases.

(5) FTA will not approve deferred local share.

5. Application Content

a. Proposal Submission Process

(1) Project proposals must be submitted electronically through http://www.grants.gov and a synopsis of this announcement will be available in the “FIND” module. Mail and fax submissions will not be accepted except for supplemental information that cannot be sent electronically.

(2) Applicants can only apply for funds currently available for allocation. However, an applicant may propose a project that would expend money over multiple years. The project, however, should be ready to implement and should be completed in a reasonable period of time. In sum, the period of performance of the award is separate from the year that funds are awarded.

b. Proposal Content

(1) Applicant Information

This addresses basic identifying information, including:

i. Applicant's name,

ii. Contact information (including contact name, address, e-mail address, phone and fax number),

iii. Whether the applicant's area is attainment, non-attainment, or maintenance for ozone or CO,

iv. Description of services provided by the agency, including areas served,

v. If the project proposal includes vehicles, include existing fleet information, such as a current bus fleet management plan if not already on file with the FTA regional office, and

vi. A description of your technical, legal, and financial capacity to implement the proposed project.

(2) Project Information

Every proposal must:

i. Describe the project to be funded and include with the proposal any necessary supporting documentation. Example: Information on the age of the current fleet, MPO concurrence letters, ridership information.

ii. Address each of the evaluation criteria separately.

iii. Congressional district(s) served by the proposed project.

iv. Provide a line-item budget for the project and its total cost.

v. Provide the Federal amount requested for each purpose for which funds are sought.

vi. Document matching funds, including amount and source of the match.

vii. Provide project time-line, including significant milestones such as date or contract for purchase of vehicle(s), actual or expected delivery date of vehicles and contract award and completion of facility improvements.

c. Funding Restrictions

Only proposals from eligible recipients for eligible activities will be considered for funding. Due to funding limitations, applicants that are selected for funding may receive less than the amount requested.

6. Evaluation Criteria for Clean Fuels Grant Program

a. Project Evaluation Criteria

Projects will be evaluated according to the following criteria:

(1) Demonstrated Need

i. Project represents a one-time or periodic need that cannot reasonably be funded from formula allocations or State and/or local revenues.

ii. Project or applicant did not receive significant funding in an earmark.

iii. The project will have a positive impact on air quality.

iv. The project is consistent with the applicant's bus fleet management plan.

v. The project is a transportation control measure in an approved State Implementation Plan (if applicable).

(2) Planning and prioritization at local/regional level.

i. Project is consistent with the transit priorities identified in the long range plan and/or contingency/illustrative projects. The project could not be included in the financially constrained Transportation Improvement Plan (TIP)/STIP due to lack of funding (if selected, project must be in federally approved STIP before grant award).

ii. Local support is demonstrated by availability of local match for this and/or related projects and letters of support.

iii. In an area with more than one transit operator, the application demonstrates coordination with and support of other transit operators, or other related projects within the applicant's MPO or the geographic region within which the proposed project will operate.

(3) The project is ready to implement.

i. Any required environmental work has been initiated for construction projects requiring an Environmental Assessment (EA).

ii. Implementation plans are ready, including initial design of facilities projects.

iii. TIP/STIP can be amended (evidenced by MPO/State endorsement).

iv. Project can be obligated and begin implementation quickly, if selected.

(4) The applicant demonstrates the benefits of the proposed project in reducing transportation related pollutants.

(5) The proposed project supports emerging clean fuels technologies or advanced technologies for transit buses.

(6) The applicants demonstrate the technical, legal, and financial capacity to carry out the project. This criterion refers to implementation of the particular project proposed.

i. The applicant has the technical capacity to administer the project.

ii. The acquisition is consistent with the bus fleet management plan.

iii. There are no outstanding legal, technical, or financial issues with the grantee that would make this a high-risk project.

iv. Source of local match is identified and is available for prompt project implementation if selected (no deferred local share will be allowed).

(7) Geographic Diversity. To provide the ability to evaluate technologies in a wide variety of conditions, FTA may select projects to ensure there is sufficient geographic diversity.

III. Technical Assistance

FTA will post answers to commonly asked questions about the TIGGER program as well as provide information to assist in calculations at http://www.fta.dot.gov/tigger. Commonly asked questions about the FY 2010 Clean Fuels Grant program can be found at http://www.fta.dot.gov/funding/grants/grants_financing_3560.html. Technical assistance regarding these requirements is available from each FTA regional office listed in Appendix A. The regional offices will contact those applicants selected for funding regarding grants and reporting requirements and will provide assistance in preparing the documentation necessary for the grant award.

Contact the appropriate FTA Regional or Metropolitan Office for application-specific information and issues. For general TIGGER program information, contact Walter Kulyk, Office of Mobility Innovation, (202) 366-4995, e-mail: walter.kulyk@dot.gov. For program information on the Clean Fuels/Bus and Bus Facilities Program; contact Juan Morrison, Office of Program Management, (202) 366-7005, e-mail: juan.morrison.dot.gov. A TDD is available at 1-800-877-8339 (TDD/FIRS).

Issued in Washington, DC, this 8th day of April 2010.
Peter Rogoff,
Administrator.

Appendix A

FTA Regional and Metropolitan Offices

Richard H. Doyle, Regional Administrator, Region 1—Boston, Kendall Square, 55 Broadway, Suite 920, Cambridge, MA 02142-1093, Tel. 617-494-2055. States served: Connecticut, Maine, Massachusetts, New Hampshire, Rhode, Island, and Vermont. | Robert C. Patrick, Regional Administrator, Region 6—Ft. Worth, 819 Taylor Street, Room 8A36, Ft. Worth, TX 76102, Tel. 817-978-0550. States served: Arkansas, Louisiana, Oklahoma, New Mexico, and Texas.
Brigid Hynes-Cherin, Regional Administrator, Region 2—New York, One Bowling Green, Room 429, New York, NY 10004-1415, Tel. 212-668-2170. States served: New Jersey, New York. | Mokhtee Ahmad, Regional Administrator, Region 7—Kansas City, MO, 901 Locust Street, Room 404, Kansas City, MO 64106, Tel. 816-329-3920. States served: Iowa, Kansas, Missouri, and Nebraska.
New York Metropolitan Office, Region 2—New York, One Bowling Green, Room 428, New York, NY 10004-1415, Tel. 212-668-2202.
Letitia Thompson, Regional Administrator, Region 3—Philadelphia, 1760 Market Street, Suite 500, Philadelphia, PA 19103-4124, Tel. 215-656-7100. States served: Delaware, Maryland, Pennsylvania, Virginia, West Virginia, and District of Columbia. | Terry Rosapep, Regional Administrator, Region 8—Denver, 12300 West Dakota Ave., Suite 310, Lakewood, CO 80228-2583, Tel. 720-963-3300. States served: Colorado, Montana, North Dakota, South Dakota, Utah, and Wyoming.
Philadelphia Metropolitan Office, Region 3—Philadelphia, 1760 Market Street, Suite 500, Philadelphia, PA 19103-4124, Tel. 215-656-7070.
Washington, DC Metropolitan Office, 1990 K Street, NW., Room 510, Washington, DC 20006, Tel. 202-219-3562.
Yvette Taylor, Regional Administrator, Region 4—Atlanta, 230 Peachtree Street, NW., Suite 800, Atlanta, GA 30303, Tel. 404-865-5600. States served: Alabama, Florida, Georgia, Kentucky, Mississippi, North, Carolina, Puerto Rico, South Carolina, Tennessee, and Virgin Islands. | Leslie T. Rogers, Regional Administrator, Region 9—San Francisco, 201 Mission Street, Room 1650, San Francisco, CA 94105-1926, Tel. 415-744-3133. States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. States served: Illinois, Indiana, Michigan, Minnesota, Ohio, and Wisconsin. | Rick Krochalis, Regional Administrator, Region 10—Seattle, Jackson Federal Building, 915 Second Avenue, Suite 3142, Seattle, WA 98174-1002, Tel. 206-220-7954. States served: Alaska, Idaho, Oregon, and Washington.
Chicago Metropolitan Office, Region 5—Chicago, 200 West Adams Street, Suite 320, Chicago, IL 60606, Tel. 312-353-2789. |

Appendix B

TIGGER Program Glossary of Terms

Energy Use of the Public Transportation System is the sum of the lower (net) heating value of fuels purchased directly by the public transportation system plus electricity purchased directly by the public transportation system. It includes energy used to perform both revenue and non revenue operations directly operated by the agency, but not energy used by purchased services. It includes fuels used by an agency to generate energy, but not energy generated by an agency. As an example, an applicant would count the lower heating value of the diesel fuel used to operate a diesel generator by an agency but not the electricity produced by the generator. Energy produced on-site using solar or wind power is also not counted as part of consumption.

Expected Useful Life is the expected lifetime of project property, or the acceptable period of use in service, based on standard industry practices such as those defined in FTA Circular 9300.1B. If a useful life is claimed that differs from standard industry practices, or for which no standard practice exists, the assumed useful life of a project should be justified using appropriate citations or well-documented assumptions and reasoning.

Greenhouse Gases are gases that trap heat in the atmosphere expressed in Carbon Dioxide (C02)-equivalent mass. The principal greenhouse gases that enter the atmosphere because of human activities are: Carbon Dioxide (CO2); Methane (CH4); Nitrous Oxide (N2O); and Fluorinated Gases (Hydrofluorocarbons, perfluorocarbons, and sulfur hexafluoride)

Greenhouse Gas Emissions of the Public Transportation Agency are greenhouse gas emissions from public transportation systems vehicles or facilities, otherwise known as direct emissions. It does not include indirect emissions (e.g., from third-party power plants) or displaced emissions (e.g., emissions from manufacturing transit equipment, waste disposal, emissions released by upstream processes prior to purchase of the fuel or electricity by the transit agency, etc.).

Project is the proposed capital investment as well as the existing system, subsystem, facility, vehicle, or component that the investment will replace or be applied to. The project scope determines where measurement of energy reductions or emissions reductions will take place and must be directly related to the actual capital investment.

Total Project Energy Savings is the estimated annual project energy savings multiplied by the expected useful life of the investment.

Total Project Greenhouse Gas Emission Reductions is the estimated annual project greenhouse gas emission reductions multiplied by the expected useful life of the investment.

Appendix C

TIGGER Project Proposal Outline

Each project proposal must contain the following information. Additional application instructions and tools will be located on FTA's TIGGER Program Web site: http://www.fta.dot.gov/tigger.

a. Project Summary Sheet—The applicant may be requested to enter summary information about the project into a project summary sheet that will be posted on FTA's Web site at http://www.fta.dot.gov/tigger. Instructions for completing and submitting the sheet will be provided at the Web site.

b. Applicant information: For each transit agency included in the proposal, the information should include:

(1) Applicant name

(2) Contact information

(3) Whether the applicant's area is attainment, non-attainment, or maintenance for ozone or CO

(4) Description of services provided by the agency and areas served

(5) If proposal includes vehicles, include existing fleet information, such as a current rail or bus fleet management plan, if not already on file with the FTA Regional Office, and

(6) A description of their technical, legal, financial, and program management capacity to implement the proposed project.

c. Project Information: The information should include:

(1) Whether the project is to be evaluated under energy reduction, greenhouse gas reduction criteria, or both.

(2) A description of the scope of the project.

(3) Provide a line item budget for the project and its total cost and for scalable projects include the minimum amount necessary to implement the project if FTA were not to fund the total cost.

(4) Identify the expected useful life of the investment.

(5) Provide brief project time-line outlining steps from project development through completion, including significant milestones such as date of contract awards and dates of project implementation (e.g. when vehicles will begin revenue service).

(6) Provide the proposed location of the project, for facilities and other infrastructure provide the city or county where the investment will be located as applicable; for vehicles provide the cities or counties where services are likely to be provided.

(7) Congressional district(s) served by the proposed project.

d. Project Measurement Criteria for Energy Reduction projects: Proposals should identify the process the agency will use to determine the actual energy savings once the investment is implemented. For projects proposed to reduce energy consumption the proposal should include:

(1) Project's Current Annual Energy Use

(2) Project's Estimated Annual Energy Use

(3) Project's Estimated Annual Energy Savings

(4) Project's Total Estimated Energy Savings Over its Useful Life

e. Project's Total Energy Savings as a Percentage of the Agency's Total Energy Use. This can be reported as less than one percent or the proposal must include:

(1) Total Energy Consumption of the Public Transportation Agency

(2) The Project's Total Energy Savings as a percentage of the Total Energy Consumption of the Public Transportation Agency

f. Project Measurement Criteria for Greenhouse Gas Emission Reduction projects: Proposals should identify the process the agency will use to determine the greenhouse gas emission reductions once the investment is implemented. For projects proposed to reduce greenhouse gas emissions the proposal should include:

(1) Project's Current Annual Greenhouse Gas Emissions

(2) Project's Estimated Annual Greenhouse Gas Emissions

(3) Project's Estimated Annual Greenhouse Gas Savings

(4) Project's Total Estimated Greenhouse Gas Savings over the Project's Useful Life

g. Any proposed deviations from FTA requirements

h. Address each of the evaluation criteria separately.

(1) Project Innovation

(2) National Applicability

(3) Project Readiness

(4) Project Management

(5) Return on Investment

BILLING CODE P

[FR Doc. 2010-8398 Filed 4-9-10; 11:15 am]

BILLING CODE C